DEPARTMENT OF THE TREASURY

Submission for OMB Review; Comment Request

April 29, 2003.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before June 9, 2003, to be assured of consideration.

Financial Management Service (FMS)

OMB Number: 1510-0043.

Form Number: FMS 133 and FMS 135.

Type of Review: Extension.

Title: Notice of Reclamation, Electronic Funds Transfer Federal Recurring Payments (FMS 133); and Request for Debit, Electronic Funds Transfer Federal Recurring Payments (FMS 135).

Description: A program agency authorizes Treasury to recover payments that have been issued after the death of the beneficiary. FMS Form 133 is used by Treasury to notify the financial institution (FI) of the FI's accountability concerning the funds. When the FI's do not respond to the FMS 133, Treasury then prepares FMS 135 and sends it to the Federal Reserve Bank (FRB) which services the FI to request the FRB to debit the account of the FI.

Respondents: Business or other for-profit.

Estimated Number of Respondents: 55,000.

Estimated Burden Hours Per Respondent: 12 minutes.

Frequency of Response: Other (as needed).

Estimated Total Reporting Burden: 79,335 hours.

OMB Number: 1510-0045.

Form Number: FMS 150.1 and FMS 150.2.

Type of Review: Extension.

Title: Trace Request for EFT Payments.

Description: The purpose is to notify the financial organization that a customer (beneficiary) has claimed non-receipt of credit for a payment. The form is designed to help the financial organization locate any problem and to keep the customer (beneficiary) informed of any action taken.

Respondents: Business or other for-profit.

Estimated Number of Respondents: 134,783.

Estimated Burden Hours Per Respondent: 8 minutes.

Frequency of Response: Other (as needed).

Estimated Total Reporting Burden: 17,971 hours.

OMB Number: 1510-0073.

Form Number: FMS 111.

Type of Review: Extension.

Title: ETA Financial Agency Agreement.

Description: This application will collect a financial institution's identifying information, confirm a financial institution's commitment to offering the Electronic Transfer Accounts (ETAs), identify a point of contact for the ETA Program and determine when the financial institution will begin offering the ETA.

Respondents: Business or other for-profit.

Estimated Number of Respondents: 20.

Estimated Burden Hours Per Respondent: 2 hours.

Frequency of Response: Other (as required).

Estimated Total Reporting Burden: 40 hours.

Clearance Officer: Juanita Holder, Financial Management Service, 3700 East West Highway, Room 135, PGP II, Hyattsville, MD 20782.

OMB Reviewer: Joseph F. Lackey, Jr., Office of Management and Budget, Room 10235, New Executive Office Building, Washington, DC 20503, (202) 395-7316.

Mary A. Able,
Departmental Reports Management Officer.

[FR Doc. 03-11590 Filed 5-8-03; 8:45 am]

BILLING CODE 4810-35-P